DEPARTMENT OF ENERGY

Federal Energy Regulatory Commission

[Docket No. RP07-562-000]

Williston Basin Interstate Pipeline Company; Notice of Request for Waiver of Disbursement of GRI Funds

August 9, 2007.

Take notice that on August 3, 2007, Williston Basin Interstate Pipeline Company (Williston Basin or Company), P.O. Box 5601, Bismarck, North Dakota 58506-5601, filed with the Commission a request for a waiver of the disbursement of GRI refunds to its customers as required pursuant to a 1998 Settlement Agreement in Docket No. RP97-371-000, et al. In lieu of that obligation, Williston Basin requests that it be allowed to make donation of such refund to the Low Income Home Energy Assistance Program (LIHEAP).

Any person desiring to intervene or to protest this filing must file in accordance with Rules 211 and 214 of the Commission's Rules of Practices and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant. Anyone filing an intervention or protest on or before the intervention or protest date need not serve motions to intervene or protests on persons other than the Applicant.

The Commission encourages electronic submission of protests in lieu of paper using the “eFiling” link at http://www.ferc.gov. Persons unable to file electronically should submit an original and 14 copies of the protest to the Federal Energy Regulatory Commission, 888 First Street, NE., Washington, DC 20426.

The filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Kimberly D. Bose,
Secretary.

[FR Doc. E7-16028 Filed 8-15-07; 8:45 am]

BILLING CODE 6717-01-P